ENVIRONMENTAL PROTECTION AGENCY

40 CFR Part 52

[EPA-R05-OAR-2014-0119; FRL-9912-19-Region-5]

Approval and Promulgation of Air Quality Implementation Plans; Illinois; Latham Pool Adjusted Standard

Correction

In rule document 2014-16290 appearing on pages 40673 through 40675 in the issue of Monday, July 14, 2014, make the following correction:

1. On page 40673, in the second column, in the “DATES” section, the effective date listed on line two “August 13, 2014” should read “September 12, 2014”.

[FR Doc. C1-2014-16290 Filed 7-28-14; 8:45 am]

BILLING CODE 1505-05-D